SMALL BUSINESS ADMINISTRATION

[Declaration of Disaster #3526]

State of Indiana (Amendment #1)

In accordance with the notice received from the Department of Homeland Security—Federal Emergency Management Agency, effective July 17, 2003, the above numbered declaration is hereby amended to include Clay, Fulton, Morgan, Newton, Parke, and Vigo Counties in the State of Indiana as a disaster area due to damages caused by severe storms, tornadoes, and flooding occurring on July 4, 2003 and continuing.

In addition, applications for economic injury loans from small businesses located in the following contiguous counties may be filed until the specified date at the previously designated location: Brown, Greene, Monroe, Owen, and Sullivan Counties in the State of Indiana; and Clark, Edgar, and Kankakee Counties in the State of Illinois. All other counties contiguous to the above named primary counties have been previously declared.

All other information remains the same, i.e., the deadline for filing applications for physical damage is September 9, 2003, and for economic injury the deadline is April 12, 2004.

(Catalog of Federal Domestic Assistance Program Nos. 59002 and 59008)

Dated: July 18, 2003.
Cheri L. Cannon,
Acting Associate Administrator for Disaster Assistance.

[FR Doc. 03-18989 Filed 7-24-03; 8:45 am]

BILLING CODE 8025-01-P